DEPARTMENT OF COMMERCE

National Oceanic and Atmospheric Administration

RIN 0648-XE227

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Summer Flounder, Scup, and Black Sea Bass Monitoring Committee will hold a public meeting.

DATES: The meeting will be held on Tuesday, October 27, 2015, from 10 a.m. to 5 p.m., and on Wednesday, October 28, 2015, from 8:30 a.m. to 1 p.m.

ADDRESSES: The meeting will be held at the Courtyard by Marriott Baltimore BWI Airport, 1671 West Nursery Road, Linthicum, MD 21090; telephone: (410) 859-8855.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The MAFMC's Summer Flounder, Scup, and Black Sea Bass Monitoring Committee, with the Atlantic States Marine Fisheries Commission's Summer Flounder, Scup, and Black Sea Bass Technical Committee, will hold a workshop to review methods, datasets, and considerations for recommending and evaluating recreational management measures for these three species. The meeting will focus on specific technical methods for calculating adjustments to bag limits, size limits, and seasonal limits, as well as current and potential supporting recreational datasets, tools, and models. The objective of the meeting is for the Committees to identify potential improvements to the current processes and methods for recommending and evaluating recreational measures. A detailed agenda will be posted at www.mafmc.org prior to the meeting.

Special Accommodations

The meeting is physically accessible to people with disabilities. Requests for sign language interpretation or other auxiliary aid should be directed to M. Jan Saunders, (302) 526-5251, at least 5 days prior to the meeting date.

Dated: September 30, 2015.
Tracey L. Thompson,
Acting Deputy Director, Office of Sustainable Fisheries, National Marine Fisheries Service.

[FR Doc. 2015-25240 Filed 10-2-15; 8:45 am]

BILLING CODE 3510-22-P